DEPARTMENT OF COMMERCE

Economic Development Administration

Notice of Petitions by Firms for Determination of Eligibility To Apply for Trade Adjustment Assistance

AGENCY: Economic Development Administration, U.S. Department of Commerce.

ACTION: Notice and opportunity for public comment.

SUMMARY: The Economic Development Administration (EDA) has received petitions for certification of eligibility to apply for Trade Adjustment Assistance from the firms listed below. Accordingly, EDA has initiated investigations to determine whether increased imports into the United States of articles like or directly competitive with those produced by each of the firms contributed importantly to the total or partial separation of the firms' workers, or threat thereof, and to a decrease in sales or production of each petitioning firm.

SUPPLEMENTARY INFORMATION:

List of Petitions Received by EDA for Certification of Eligibility To Apply for Trade Adjustment Assistance
[9/15/2020 through 9/18/2020]
Firm name | Firm address | Date accepted for investigation | Product(s)
Team 1 Plastics, Inc | 927 Elliott Road, Albion, MI 49224 | 9/16/2020 | The firm manufactures injection molded plastic auto parts and assemblies.
The Liberty Technology Company, LLC | 630 Liberty Road, Delaware, OH 43015 | 9/16/2020 | The firm manufactures iron castings used in gearing and gear boxes.
Thomas Moser Cabinet Makers, Inc | 72 Wrights Landing Road, Auburn, ME 04210 | 9/17/2020 | The firm manufactures wooden furniture.
Bio Med Sciences, Inc | 7584 Morris Court, Allentown, PA 18106 | 9/18/2020 | The firm manufactures bandages, dressings, and related wound care products.

Any party having a substantial interest in these proceedings may request a public hearing on the matter. A written request for a hearing must be submitted to the Trade Adjustment Assistance Division, Room 71030, Economic Development Administration, U.S. Department of Commerce, Washington, DC 20230, no later than ten (10) calendar days following publication of this notice. These petitions are received pursuant to section 251 of the Trade Act of 1974, as amended.

Please follow the requirements set forth in EDA's regulations at 13 CFR 315.9 for procedures to request a public hearing. The Catalog of Federal Domestic Assistance official number and title for the program under which these petitions are submitted is 11.313, Trade Adjustment Assistance for Firms.

Bryan Borlik,
Director.

[FR Doc. 2020-21093 Filed 9-23-20; 8:45 am]

BILLING CODE 3510-WH-P